Title 3—

The President

Proclamation 8195 of October 31, 2007

National Adoption Month, 2007

By the President of the United States of America

A Proclamation

During National Adoption Month, we recognize the adoptive and foster families who have shared their homes and hearts with children in need, and we encourage more Americans to consider adopting young people of all ages.

Families who adopt show the generous spirit of our Nation. Every child desires a permanent home, and when parents adopt a child to love as their own, lives are forever changed. For parents, the decision to adopt a child is among life's greatest and happiest turning points. On November 17, families across the country will celebrate National Adoption Day by finalizing their adoptions, and each one of these homes will be richer for the addition of new family members.

My Administration is committed to promoting adoption of children of all ages. We are working to bring together more children with loving, adoptive parents through the Collaboration to AdoptUsKids at adoptuskids.org and by providing States with financial assistance through the Adoption Incentives Program. The Promoting Safe and Stable Families Program helps improve care and services to children and families and ensure more young people in America have a caring, secure, and permanent home. Together, these efforts are building a brighter future for our youth.

During National Adoption Month, we honor adoptive and foster parents as they raise children of conviction and character. By accepting the gift of these children, parents are helping shape lives and contributing to the strength of our great Nation.

NOW, THEREFORE, I, GEORGE W. BUSH, President of the United States of America, by virtue of the authority vested in me by the Constitution and laws of the United States, do hereby proclaim November 2007 as National Adoption Month. I call upon all Americans to observe this month with appropriate programs and activities to honor adoptive families and to participate in efforts to find permanent homes for waiting children.

IN WITNESS WHEREOF, I have hereunto set my hand this thirty-first day of October, in the year of our Lord two thousand seven, and of the Independence of the United States of America the two hundred and thirty-second.

[FR Doc. 07-5508

Filed 11-1-07; 9:38 am]

Billing code 3195-01-P